DEPARTMENT OF HOMELAND SECURITY

Federal Emergency Management Agency

[Docket ID: FEMA-2018-0014; OMB No. 1660-0073]

Agency Information Collection Activities: Proposed Collection; Comment Request; National Urban Search and Rescue Response System

AGENCY: Federal Emergency Management Agency, DHS.

ACTION: Notice and request for comments.

SUMMARY: The Federal Emergency Management Agency, as part of its continuing effort to reduce paperwork and respondent burden, invites the general public to take this opportunity to comment on an extension, without change, of a currently approved information collection. In accordance with the Paperwork Reduction Act of 1995, this notice seeks comments concerning the Urban Search and Rescue Response System information collection.

DATES: Comments must be submitted on or before June 25, 2018.

ADDRESSES: To avoid duplicate submissions to the docket, please use only one of the following means to submit comments:

(1) Online. Submit comments at www.regulations.gov under Docket ID FEMA-2018-0014. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Wanda Casey, Chief, Program Management Section, US&R Branch, FEMA, Response Directorate, Operations Division, at (202) 646-4013. You may contact the Information Management Division for copies of the proposed collection of information at email address: FEMA-Information-Collections-Management@fema.dhs.gov.

SUPPLEMENTARY INFORMATION: Section 303 of the Robert T. Stafford Disaster Relief and Emergency Assistance Act (Stafford Act), 42 U.S.C. 5144, authorizes the President of the United States to form emergency support teams of Federal personnel to be deployed to an area affected by major disaster or emergency. Section 403(a)(3)(B) of the Stafford Act provides that the President may authorize Federal Agencies to perform work on public or private lands essential to save lives and protect property, including search and rescue and emergency medical care, and other essential needs. Section 327 of the Stafford Act further authorizes the National US&R Response System (“the System”) and outlines the Administrator's authorization to designate teams as well as outlines specific protections for System members.

The information collection activity authorized under the OMB circular, 2 CFR part 200, “Uniform Administrative Requirements, Cost Principles, and Audit Requirements, for Federal Awards.” The collection contains information from the programmatic and administrative activities of the US&R Sponsoring Agencies relating to the readiness and response cooperative agreement awards.

Collection of Information

Title: National Urban Search and Rescue Response System.

Type of Information Collection: Extension, without change, of a currently approved information collection.

OMB Number: 1660-0073.

FEMA Forms: FEMA Form 089-0-10, Urban Search Rescue Response System Narrative Statement Workbook; FEMA Form 089-0-11, Urban Search Rescue Response System Semi-Annual Performance Report; FEMA Form 089-0-12, Urban Search Rescue Response System Amendment Form; FEMA Form 089-0-14, Urban Search Rescue Response System Task Force Self-Evaluation Scoresheet; FEMA Form 089-0-15, Urban Search Rescue Response System Task Force Deployment Data; FEMA Form 089-0-26, Vehicle Support Unit Purchase/Replacement/Disposal Justification.

Abstract: The information collection activity is the collection of financial, program and administrative information for US&R Sponsoring Agencies relating to readiness and response for Cooperative Agreement awards.

Affected Public: State, Local or Tribal Government.

Estimated Number of Respondents: 28.

Estimated Number of Responses: 210.

Estimated Total Annual Burden Hours: 392.

Estimated Total Annual Respondent Cost: $20,654.48.

Estimated Respondents' Operation and Maintenance Costs: $0.

Estimated Respondents' Capital and Start-Up Costs: $0.

Estimated Total Annual Cost to the Federal Government: $121,403.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 12, 2018.
Rachel Frier,
Records Management Branch Chief, Mission Support, Federal Emergency Management Agency, Department of Homeland Security.

[FR Doc. 2018-08804 Filed 4-25-18; 8:45 am]

BILLING CODE 9111-54-P